DEPARTMENT OF THE INTERIOR

Bureau of Land Management

[MT-020-07-1310-DT]

Notice of Intent To Prepare Supplemental Air Quality Analysis Information for the Draft Supplement to the Montana Statewide Final Oil and Gas Environmental Impact Statement (Draft SEIS) and Amendment of the Powder River and Billings Resource Management Plans (RMP), Miles City, MT

AGENCY: Bureau of Land Management, Interior.

ACTION: Notice of intent.

SUMMARY: Pursuant to the National Environmental Policy Act (NEPA) of 1969, as amended, the Bureau of Land Management (BLM), Miles City Field Office, Montana, announces its intent to prepare supplemental air quality analysis information. On February 2, 2007, the BLM published a Notice of Availability in the Federal Register announcing the release of the Draft SEIS for public review and comment. The 90-day comment period closed May 2, 2007. The BLM was notified by the Environmental Protection Agency (EPA) of air quality analysis deficiencies in the Draft SEIS. As a result, the BLM is preparing an additional air quality analysis. When the additional air quality analysis has been completed, the BLM will only accept comments from the public on the new information presented.

DATES: The BLM anticipates making the additional air quality analysis information available to the public for a 90-day comment period around September 2007. The BLM will publish a Notice of Availability in the Federal Register when the supplemental air quality analysis is ready for release for public comment. Additional announcements will be made through local media by news releases and posted information on the Draft SEIS Web site: http://www.blm.gov/eis/mt/milescity_seis/.

FOR FURTHER INFORMATION CONTACT: Mary Bloom, Project Manager, Miles City Field Office, P.O. Box 219, Miles City, Montana 59301, or by telephone at (406) 233-2852.

SUPPLEMENTARY INFORMATION: Public comments submitted on the supplemental air quality analysis on the Draft SEIS, including names, e-mail addresses, and street addresses of the respondents, will be available for public review and disclosure at the above address during regular office business hours (7:45 a.m. to 4:30 p.m.), Monday through Friday, except holidays. Individual respondents may request confidentiality.

Before including your address, phone number, e-mail address, or other personal identifying information in your comment, you should be aware that your entire comment—including your personal identifying information—may be made publicly available at any time. While you can ask us in your comment to withhold your personal identifying information from public review, we cannot guarantee that we will be able to do so.

Sandra C. Berain,
Acting State Director.

[FR Doc. E7-10891 Filed 6-5-07; 8:45 am]

BILLING CODE 4310-$$-P